DEPARTMENT OF TRANSPORTATION

National Highway Traffic Safety Administration

[Docket No. NHTSA-2020-0073]

Agency Information Collection Activities; Submission to the Office of Management and Budget for Review and Approval; Request for Comment; Survey on Driver Awareness of Motorcycles

AGENCY: National Highway Traffic Safety Administration (NHTSA), Department of Transportation (DOT).

ACTION: Notice and request for comments on a new information collection.

SUMMARY: In compliance with the Paperwork Reduction Act of 1995 (PRA), this notice announces that the Information Collection Request (ICR) abstracted below will be submitted to the Office of Management and Budget (OMB) for review and approval. The ICR describes the nature of the information collection and its expected burden. This document describes a new collection of information for which NHTSA intends to seek OMB approval. The Survey on Driver Awareness of Motorcycles is a one-time voluntary survey regarding motorists' knowledge, attitudes, and awareness of safe-driving behaviors towards motorcycles. A Federal Register notice with a 60-day comment period soliciting public comments on the following information collection was published on April 7, 2022. NHTSA received seven comments. The National Association of Mutual Insurance Companies submitted a letter of support for the proposed information collection, as did two individuals. The other four comments were either neutral, implicitly supportive, or not directly relevant to the proposed information collection, as described below.

DATES: Comments must be submitted on or before August 29, 2022.

ADDRESSES: Written comments and recommendations for the proposed information collection, including suggestions for reducing burden, should be submitted to the Office of Management and Budget at www.reginfo.gov/public/do/PRAMain. To find this particular information collection, select “Currently under Review—Open for Public Comment” or use the search function. Comments may also be sent by mail to the Office of Information and Regulatory Affairs, Office of Management and Budget, 725 17th Street NW, Washington, DC 20503, Attention: Desk Officer for Department of Transportation, National Highway Traffic Safety Administration, or by email at oira_submission@omb.eop.gov, or fax: 202-395-5806.

FOR FURTHER INFORMATION CONTACT: For additional information or access to background documents, contact Kathryn Wochinger, Ph.D., Office of Behavioral Safety Research (NPD-310), (202) 366-4300, kathryn.wochinger@dot.gov, National Highway Traffic Safety Administration, W46-487, 1200 New Jersey Avenue SE, Washington, DC 20590.

SUPPLEMENTARY INFORMATION: Under the PRA (44 U.S.C. 3501 et seq.) a Federal agency must receive approval from the Office of Management and Budget (OMB) before it collects certain information from the public and a person is not required to respond to a collection of information by a Federal agency unless the collection displays a valid OMB control number. In compliance with these requirements, this notice announces that the following information collection request will be submitted to OMB.

A Federal Register notice with a 60-day comment period soliciting public comments on the following information collection was published on April 7, 2022 (Federal Register/Vol. 87, No. 67/pp. 20501-20504). NHTSA received six comments from individuals and one letter from the National Association of Mutual Insurance Companies expressing support for the proposed information collection. John Banta and John Tramburg provided comments supportive of the information collection. A third individual (John Herlihy) commented that “. . . the most dangerous part about [riding a motorcycle] is other vehicle operators.” A fourth anonymous post was that “. . . many riders are most concerned about the use of additional ethenol [sic] in our gasoline as a method to increase the supply of gasoline and control price points,” but the issue of gasoline is not addressed in the proposed information collection. A fifth comment submitted by Andy Kelly was about training of automobile drivers and motorcycle operators in the Commonwealth of Pennsylvania. The sixth comment from John Chico Bethea was that “. . . the greatest danger to a modern motorcyclist are [sic] the other motor vehicle (cars, trucks, SUVs) drivers on their cell phones.” We appreciate the letter of support from the National Association of Mutual Insurance Companies and the comments from each individual and thank them for their input.

Title: Survey on Driver Awareness of Motorcycles.

OMB Control Number: New.

Form Numbers: NHTSA Forms 1577, 1578, 1579, 1580, 1581, 1582, 1583, and 1588.

Type of Request: Approval of a new information collection.

Type of Review Requested: Regular.

Requested Expiration Date of Approval: 3 years from date of approval.

Summary of the Collection of Information: NHTSA is seeking approval to collect information from two samples of randomly selected adults who are aged 18 years or older and have driven a motor vehicle at least once in the past three months for a new one-time voluntary survey to report their knowledge, attitudes, and awareness of safe-driving behaviors towards motorcycles. One sample consists of adult drivers residing in Florida, and the other sample consists of adult drivers residing in Pennsylvania. Surveys would be conducted with respondents using an address-based sampling design that encourages respondents to complete the survey online. NHTSA will contact a total of 33,460 to achieve a target of at least 2,486 complete voluntary responses consisting of 1,243 completed instruments from the Florida sample and 1,243 completed instruments from the Pennsylvania sample. The large geographic and demographic sizes of Florida and Pennsylvania allow for complex driving environments in which motorcycles and passenger vehicles operate in a range of traffic conditions. An Institutional Review Board (IRB) determined that this proposed information collection is exempt from IRB oversight. NHTSA will summarize the results of the collection using aggregate statistics in a final report to be distributed to NHTSA program and regional offices, State Highway Safety Offices, and other traffic safety and motorcycle safety stakeholders. This collection supports NHTSA's mission by obtaining information needed for the development of traffic safety countermeasures, particularly in the areas of communications and outreach, for the purpose of reducing fatalities, injuries, and crashes associated with multi-vehicle motorcycle crashes.

Description of the Need for the Information and Proposed Use of the Information: NHTSA was established by the Highway Safety Act of 1970 to reduce deaths, injuries, and economic losses resulting from motor vehicle crashes on the Nation's highways. To further its mission, NHTSA is authorized to conduct research as a foundation for the development of traffic safety programs. Title 23, United States Code, Section 403, gives the Secretary of Transportation (NHTSA by delegation) authorization to use funds appropriated to conduct research and development activities, including demonstration projects and the collection and analysis of highway and motor vehicle safety data and related information, with respect to all aspects of highway and traffic safety systems and conditions relating to vehicle, highway, driver, passenger, motorcyclist, bicyclist, and pedestrian characteristics; accident causation and investigations; and human behavioral factors and their effect on highway and traffic safety. Motorcycle safety is a behavioral area for which NHTSA has developed programs to meet its injury reduction goals. Motorcycle safety is an increasing safety concern in highway transportation. For example, per vehicle miles traveled in 2019, motorcyclist fatalities occurred nearly 29 times more frequently than passenger car occupant fatalities in traffic crashes, and an estimated 84,000 motorcyclists were injured in 2019, which is a 2-percent increase from 82,000 motorcyclists injured in 2018; the most harmful event for 55 percent of the 5,114 motorcycles involved in fatal crashes in 2019 was a collision with another motor vehicle; and in two-vehicle crashes, 76 percent of the motorcycles involved in fatal crashes were struck in the front. Thus, strategies for improving motorcycle safety include addressing other motorists' perceptions and awareness of motorcycles.

This collection supports NHTSA's efforts to increase motorcyclist safety by examining factors related to the interactions between motorcycles and other motorists and their vehicles. The information from this collection will assist NHTSA in (a) assessing the extent and limitations of motorist knowledge of safe behaviors toward motorcycles, and (b) identifying the issues to emphasize in traffic safety campaigns and driver education. The collected information will help identify the beliefs, attitudes, and perceptions underlying driving behaviors towards motorcycles and inform the development of countermeasures to improve the safety of interactions between motor vehicles, specifically, motorcycles, and other vehicle types (primarily passenger cars and Sport Utility Vehicles (SUVs)).

The survey data will be used to assist NHTSA in its ongoing responsibilities for: (a) planning and designing research and program activities to improve motorcycle safety; (b) providing support to groups involved in developing and implementing motorcycle safety outreach programs and driver safety campaigns; and (c) identifying areas in driver awareness and knowledge that need attention. NHTSA will use the information to produce a technical report that presents the results of the study. The technical report will provide aggregate (summary) statistics and tables as well as the results of statistical analysis of the information, but it will not include any personally identifiable information. The project data will serve as a resource for NHTSA and stakeholders to identify gaps in knowledge among the driving public. The technical report will be shared with State highway offices, local governments, and those who develop traffic safety communications that aim to improve motorcycle safety.

Affected Public: Participants will be U.S. adults (18 years and older) who reside in Florida or Pennsylvania and who have driven a motor vehicle (car, van, SUV, or pickup truck) at least once in the past three months. Businesses are ineligible for the sample and would not be surveyed.

Estimated Number of Respondents: 2,486.

Participation in this study is voluntary. The estimated respondents consist of 1,243 in the Florida sample and 1,243 in the Pennsylvania sample. The project will invite 33,460 people to participate using address data from the most recent U.S. Postal Service computerized Delivery Sequence File of residential addresses. No more than one respondent will be selected per household.

Frequency of Collection: The study will be conducted one time during the three-year period for which NHTSA is requesting approval and there will be no recurrence.

Estimated Total Annual Burden Hours: NHTSA estimates the total burden of this information collection by estimating the burden to those who NHTSA contacts who respond and are eligible for participation (eligible respondents that take the survey) and those contacted that choose not to take the survey (non-responders) or are not eligible to participate. The estimated time to contact 33,460 potential participants (participants and non-responders) for the survey is one minute per person per contact attempt. Contact attempts will be made in five waves with fewer potential participants contacted in each subsequent wave. Potential participants will receive an initial postcard informing them of the project and inviting participation. The first contact is a postcard introducing the project and inviting participation. The second contact is an invitation letter with instructions for completing the survey online (as the methodology follows a “push-to-web” design to provide incentive to complete the survey online). The third contact is a reminder postcard. The fourth is a letter with a paper questionnaire and the fifth is a final reminder postcard. The sixth and final wave is a “thank you” letter that will include the contingent incentive to respondents who have provided a completed response. NHTSA estimates that 2,486 people will respond to the survey request. The estimated time to contact (1 minute) and complete the survey (14 minutes) is 15 minutes per person. The total burden estimated for this information collection is 3,289 hours. Table 1 provides a description for each of the forms used in the survey protocol as well as their mailing wave. Details of the burden hours for each wave in the survey are included in Table 2. When rounded up to the nearest whole hour for each data collection effort, the total estimated annual burden is 3,289 hours for the project activities.

Table 1—NHTSA Form Number, Description, and Mailing Wave
NHTSA form No. | Description | Mailing wave
1577 | Initial Postcard—serves as a notice of selection, explains survey rationale | 1
1578 | Invitation Letter—provides instructions and hyperlink to the online survey and includes the $1 non-contingent incentive | 2
1579 | Reminder Postcard #1—the first reminder, includes instructions and hyperlink to the online survey | 3
1580 | Reminder Letter #1—the second reminder with the paper survey, prepaid return envelope, PIN, and hyperlink to the online survey | 4
1581 | Reminder Postcard #2—last reminder, includes hyperlink to the online survey | 5
1582 | Questionnaire—the online version, provided on a secure website | 2, 3, 4, 5
1583 | Questionnaire—the paper version, for responders not using the online questionnaire | 4
1588 | Thank You Letter—includes the contingent incentive | 6

Table 2 shows the estimated burden for each contact (wave) by participation type (non-respondent, eligible, and ineligible). In the first wave, 33,460 potential respondents are expected to spend 1 minute each reading the postcard, resulting in an estimated burden of 558 hours. This calculation is applied for each subsequent wave, as detailed in Table 2.

Table 2—Estimated Total Burden for Data Collection
Mailing wave (Form No.) | Number of contacts | Participant type | Estimated burden per sample unit (in minutes) | Frequency of burden | Number of sample units | Burden hours | Total burden hours
Wave 1 NHTSA Form 1577 | 33,460 | Contacted potential participant | 1 | 1 | 33,460 | 558 | 558
Wave 2 NHTSA Form 1578 | 33,460 | Non-respondent Ineligible respondent | 1 1 | 1 1 | 31,787 335 | 530 6 | 870
|  | Eligible respondent | 15 | 1 | 1,338 | 334
Wave 3 NHTSA Form 1579 | 31,787 | Non-respondent Ineligible respondent | 1 1 | 1 1 | 30,833 191 | 514 3 | 708
|  | Eligible respondent | 15 | 1 | 763 | 191
Wave 4 NHTSA Form 1580 | 30,833 | Non-respondent Ineligible respondent | 1 1 | 1 1 | 30,524 62 | 509 1 | 572
|  | Eligible respondent | 15 | 1 | 247 | 62
Wave 5 NHTSA Form 1581 | 30,524 | Non-respondent Ineligible respondent | 1 1 | 1 1 | 30,351 35 | 506 1 | 541
|  | Eligible respondent | 15 | 1 | 138 | 34
Wave 6 NHTSA Form 1588 | 2,486 | Completed responders | 1 | 1 | 2,486 | 41 | 41
Total |  |  |  |  |  |  | 3,289

Table 3 provides total burden hours associated with each NHTSA form. For example, 2,486 anticipated responders who provide completed questionnaires (NHTSA Forms 1582 and 1583) are expected to spend 14 minutes each, resulting in an estimated burden of 580 hours.

Table 3—Estimated Total Burden by NHTSA Form for the Data Collection
Information collection | Number of responses | Burden per response (minutes) | Burden per respondent (minutes) | Total burden hours
Questionnaire—NHTSA Forms 1582 and 1583 | 2,486 | 14 | 14 | 580
Initial Postcard—NHTSA Form 1577 | 33,460 | 1 | 1 | 558
Invitation Letter—NHTSA Form 1578 | 33,460 | 1 | 1 | 558
Postcard Reminder—NHTSA Form 1579 | 31,787 | 1 | 1 | 530
Reminder Letter—NHTSA Form 1580 | 30,833 | 1 | 1 | 514
Final Postcard Reminder—NHTSA Form 1581 | 30,524 | 1 | 1 | 508
Thank You Letter—NHTSA Form 1588 | 2,486 | 1 | 1 | 41
Total |  |  |  | 3,289

Estimated Total Annual Burden Cost: NHTSA estimates that there are no costs to respondents beyond the time spent participating in the study.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology, e.g., permitting electronic submission of responses.

Authority: The Paperwork Reduction Act of 1995; 44 U.S.C. Chapter 35, as amended; 49 CFR 1.49; and DOT Order 1351.29.

Nanda Narayanan Srinivasan,
Associate Administrator, Research and Program Development.

[FR Doc. 2022-13721 Filed 6-27-22; 8:45 am]

BILLING CODE 4910-59-P